DEPARTMENT OF COMMERCE

International Trade Administration

Harvard University, et al.; Notice of Consolidated Decision on Applications for Duty-Free Entry of Electron Microscopes

This is a decision consolidated pursuant to Section 6(c) of the Educational, Scientific, and Cultural Materials Importation Act of 1966 (Pub. L. 89-651, as amended by Public Law 106-36; 80 Stat. 897; 15 CFR part 301). Related records can be viewed between 8:30 a.m. and 5 p.m. in Room 2104, U.S. Department of Commerce, 14th and Constitution Avenue, NW., Washington, DC.

Docket Number: 08-043. Applicant: Harvard University, Cambridge, MA 02138. Instrument: Electron Microscope, Model Tecnai G2 F20 TWIN. Manufacturer: FEI Company, The Netherlands. Intended Use: See notice at 73 FR 52297, September 9, 2008.

Docket Number: 08-044. Applicant: Pennsylvania University, Hershey, PA 17033. Instrument: Electron Microscope, Model JEM 1400. Manufacturer: JEOL, Ltd., Japan. Intended Use: See notice at 73 FR 52297, September 9, 2008.

Docket Number: 08-045. Applicant: University of Texas at Austin, Austin, TX 78712. Tecnai G2 Spirit Bi0TWIN Republic. Intended Use: 2008. Instrument: Electron Microscope, Manufacturer: FEI Company, Czech See notice at 73 FR 52297, September 9, 2008.

Comments: None received. Decision: Approved. No instrument of equivalent scientific value to the foreign instrument, for such purposes as these instruments are intended to be used, was being manufactured in the United States at the time the instruments were ordered. Reasons: Each foreign instrument is an electron microscope and is intended for research or scientific educational uses requiring an electron microscope. We know of no electron microscope, or any other instrument suited to these purposes, which was being manufactured in the United States at the time of order of each instrument.

Dated: September 30, 2008.
Faye Robinson,
Director, Statutory Import Programs Staff Import Administration.

[FR Doc. E8-23581 Filed 10-6-08; 8:45 am]

BILLING CODE 3510-DS-M